DEPARTMENT OF JUSTICE

Notice of Lodging of Settlement Agreement Under the Resource Conservation and Recovery Act and the Emergency Planning and Community Right-to-Know Act

Notice is hereby given that on August 12, 2011, a proposed Consent Decree in United States v. Clean Harbors of Braintree, Inc., No. 11-11440, was lodged with the United States District Court of the District of Massachusetts. The United States filed this action, on the same day that the Consent Decree was lodged with the Court, under the Resource Conservation and Recovery Act (“RCRA”), 42 U.S.C. 6901, et seq., and the Emergency Planning and Community Right-to-Know Act (“EPCRA”), 42 U.S.C. 11001, et seq. The Complaint alleges that Clean Harbors of Braintree, Inc. (“Clean Harbors”) violated various provisions of RCRA and EPCRA, as well as their implementing permits and regulations, at the hazardous waste treatment, storage, and disposal facility operated by Clean Harbors at 1 Hill Avenue in Braintree, Massachusetts (“Facility”).

Under the Consent Decree, Clean Harbors has agreed to certain injunctive relief, to pay a penalty in the amount of $650,000, and to implement a Supplemental Environmental Project, at a cost of at least $1,062,500, involving the planting of approximately 1,400 trees in low-income or minority areas located in the City of Boston. The Consent Decree resolves the civil claims of the United States for the violations alleged in the Complaint through the date of lodging of the Consent Decree.

For a period of thirty days from the date of this publication, the Department of Justice will receive and consider comments relating to the Consent Decree. All comments must be received by the Department of Justice within this thirty-day period. Comments should be addressed to the Assistant Attorney General, Environment and Natural Resources Division, and either e-mailed to pubcomment-ees.enrd@usdoj.gov or mailed to P.O. Box 7611, U.S. Department of Justice, Washington, DC 20044, and should refer to United States v. Clean Harbors of Braintree, Inc., No. XX (D. Mass.) and D.J. Ref. No. 90-7-1-09439. A copy of any comments should be sent to Donald G. Frankel, Senior Counsel, Department of Justice, Environmental Enforcement Section, One Gateway Center, Suite 616, Newton, MA 02458, or e-mailed to donald.frankel@usdoj.gov.

The Agreement may be examined at the Office of the United States Attorney, District of Massachusetts, United States Federal Courthouse, 1 Courthouse Way, Boston, MA 02210 (contact George B. Henderson, II at 617-748-3100). During the public comment period, the Agreement may also be examined on the following Department of Justice Web site, http://www.usdoj.gov/enrd/Consent_Decrees.html. A copy of the Agreement may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy of the Agreement from the Consent Decree Library, please enclose a check in the amount of $9.50 (25 cents per page reproduction cost) payable to the U.S. Treasury (if the request is by fax or e-mail, forward a check to the Consent Decree library at the address stated above).

Ronald G. Gluck,
Assistant Section Chief, Environmental Enforcement Section, Environment and Natural Resources Division.

[FR Doc. 2011-21008 Filed 8-17-11; 8:45 am]

BILLING CODE 4410-15-P